DEPARTMENT OF COMMERCE

National Oceanic and Atmospheric Administration

RIN 0648-XC078

Endangered Species; File No. 17183

AGENCY: National Marine Fisheries Service (NMFS), National Oceanic and Atmospheric Administration (NOAA), Commerce.

ACTION: Notice; receipt of application.

SUMMARY: Notice is hereby given that Raymond Carthy, University of Florida, Florida Cooperative Fish and Wildlife Research Unit, 117 Newins-Ziegler Hall, P.O. Box 110450, Gainesville, FL 32611, has applied in due form for a permit to take green (Chelonia mydas), loggerhead (Caretta caretta), hawksbill (Eretmochelys imbricata), and Kemp's ridley (Lepidochelys kempii) sea turtles for the purposes of scientific research.

DATES: Written, telefaxed, or email comments must be received on or before August 1, 2012.

ADDRESSES: The application and related documents are available for review by selecting Records Open for Public Comment from the Features box on the Applications and Permits for Protected Species (APPS) home page, https://apps.nmfs.noaa.gov, and then selecting File No. 17183 from the list of available applications.

These documents are also available upon written request or by appointment in the following offices:

Permits and Conservation Division, Office of Protected Resources, NMFS, 1315 East-West Highway, Room 13705, Silver Spring, MD 20910; phone (301) 427-8401; fax (301) 713-0376; and

Southeast Region, NMFS, 263 13th Avenue South, Saint Petersburg, FL 33701; phone (727) 824-5312; fax (727) 824-5309.

Written comments on this application should be submitted to the Chief, Permits and Conservation Division

• By email to NMFS.Pr1Comments@noaa.gov (include the File No. in the subject line of the email),

• By facsimile to (301) 713-0376, or

• At the address listed above.

Those individuals requesting a public hearing should submit a written request to the Chief, Permits and Conservation Division at the address listed above. The request should set forth the specific reasons why a hearing on this application would be appropriate.

FOR FURTHER INFORMATION CONTACT: Colette Cairns or Amy Hapeman, (301) 427-8401.

SUPPLEMENTARY INFORMATION: The subject permit is requested under the authority of the Endangered Species Act of 1973, as amended (ESA; 16 U.S.C. 1531 et seq.) and the regulations governing the taking, importing, and exporting of endangered and threatened species (50 CFR 222-226).

The applicant requests a five-year permit to continue long-term research on the demographics and movements of green, loggerhead, hawksbill, and Kemp's ridley sea turtles off the northwest coast of Florida. The objectives of the research are to (1) obtain information on sea turtle ecology and health status; (2) determine the genetic origin of sea turtle populations in the region; (3) monitor turtle foraging habits; and (4) address fine-scale and broad-scale temporal and spatial patterns of sea turtle use and movement patterns. Researchers would capture sea turtles annually by strike net, tangle net, dip net or hand capture. Captured sea turtles would be measured, weighed, passive integrated transponder tagged, flipper tagged, epibiota sampled, tissue sampled, blood sampled, gastric lavaged, carapace marked, photographed, and released. A subset of sea turtles would be fitted with telemetry tags—either a satellite tag or an acoustic tag with an accelerometer.

Dated: June 26, 2012.
P. Michael Payne,
Chief, Permits and Conservation Division, Office of Protected Resources, National Marine Fisheries Service.

[FR Doc. 2012-16144 Filed 6-29-12; 8:45 am]

BILLING CODE 3510-22-P